DEPARTMENT OF HEALTH AND HUMAN SERVICES

Indian Health Service

Request for Public Comment: 30-Day Proposed Information Collection: Indian Health Service Background Investigations of Individuals in Positions Involving Regular Contact With or Control Over Indian Children, OPM-306

Correction

In notice document E8-30330 beginning on page 78374 in the issue of Monday, December 22, 2008, make the following correction:

On page 78374, in the third column, under Form Number, in the 10th line “IRS” should read “IHS”.

[FR Doc. Z8-30330 Filed 1-14-09; 8:45 am]

BILLING CODE 1505-01-D